DEPARTMENT OF TRANSPORTATION

Federal Aviation Administration

Public Notice for a Change in Use of Aeronautical Property at Pease International Tradeport, Portsmouth, NH

AGENCY: Federal Aviation Administration (FAA), DOT.

ACTION: Request for public comments.

SUMMARY: The FAA is requesting public comment on the Pease Development Authority's request to dispose of approx. 69 acres of Airport property. The property is located on the North end of the Tradeport along Arboretum Drive and is known as the Newington Town Forest. The vacant land is on the National Register of Historic Places and cannot be developed. The land will be deeded to the Town of Newington, New Hampshire for continued use as the Town Forest. The property was acquired from the United States of America via Quitclaim Deed dated October 15, 2003.

The disposition of proceeds from the disposal of airport property will be in accordance with FAA's Policy and Procedures Concerning the Use of Airport Revenue, published in the Federal Register on February 15, 1999.

DATES: Comments must be received on or before April 3, 2006.

ADDRESSES: Documents are available for review by appointment by contacting Ms. Lynn Hinchee, General Counsel, Pease Development Authority at 603-766-9286 or by contacting Ms. Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on February 23, 2006.
LaVerne F. Reid,
Manager, Airports Division, New England Region.

[FR Doc. 06-2008 Filed 3-2-06; 8:45 am]

BILLING CODE 4910-13-M